ENVIRONMENTAL PROTECTION AGENCY

[FRL-10003-91-Region 1]

Notice of Availability of Draft NPDES Great Bay Total Nitrogen General Permit for Wastewater Treatment Facilities in New Hampshire

AGENCY: Environmental Protection Agency (EPA).

ACTION: Notice of Availability of Draft NPDES General Permit NHG58A000.

SUMMARY: The Director of the Water Division, U.S. Environmental Protection Agency—Region 1 (EPA), is providing a Notice of Availability for the Draft National Pollutant Discharge Elimination System (NPDES) Great Bay Total Nitrogen General Permit for certain discharges from Wastewater Treatment Facilities (WWTFs) to certain waters of the State of New Hampshire. This Draft NPDES Great Bay Total Nitrogen General Permit (“Draft General Permit”) establishes effluent limitations and requirements, effluent and ambient monitoring requirements, reporting requirements and standard conditions for 13 eligible WWTFs in New Hampshire. The Draft General Permit is available on EPA Region 1's website at https://www.epa.gov/npdes-permits/draft-great-bay-total-nitrogen-general-permit. The Fact Sheet for the Draft General Permit sets forth principal facts and the significant factual, legal, methodological, and policy questions considered in the development of the Draft General Permit and is also available at this website. The Draft General Permit only authorizes the discharge of nitrogen from 13 eligible WWTFs. The discharge of all other pollutants from these WWTFs will continue to be authorized by each WWTF's respective individual NPDES permit.

DATES: Public comments must be received by March 9, 2020.

ADDRESSES: Written comments on the Draft General Permit may be mailed to U.S. EPA Region 1, Water Division, Attn: Michael Cobb, 5 Post Office Square, Suite 100, Mail Code 06-1, Boston, Massachusetts 02109-3912, or sent via email to: Cobb.Michael@epa.gov. No facsimiles (faxes) will be accepted.

FOR FURTHER INFORMATION CONTACT: Additional information concerning the Draft General Permit may be obtained between the hours of 9 a.m. and 5 p.m. Monday through Friday, excluding holidays from Michael Cobb, U.S. EPA Region 1, Water Division, 5 Post Office Square, Suite 100, Mail Code 06-1, Boston, MA 02109-3912; telephone: 617-918-1369; email: Cobb.Michael@epa.gov. The Draft General Permit is based on an administrative record available for review at U.S. EPA Region 1, Water Division, 5 Post Office Square, Suite 100, Boston, Massachusetts 02109-3912. A reasonable fee may be charged for copying requests.

SUPPLEMENTARY INFORMATION:

Public Comment Information: Interested persons may submit written comments on the Draft General Permit to EPA Region 1 at the address listed above. Additionally, pursuant to 40 CFR 124.12 EPA will hold a public hearing during the comment period for any interested persons to submit oral comments. EPA will post the details of the public hearing at EPA Region 1's website listed above and will notify via email the eligible Permittees and any other party who requests to be notified. In reaching a final decision on this Draft General Permit, the Regional Administrator will respond to all significant comments and make responses available to the public at EPA's Boston office. All comments must be postmarked or delivered by the close of the public comment period.

General Information: The Draft General Permit includes nitrogen effluent limitations and requirements based on water quality considerations. The effluent limits established in the Draft General Permit ensure that the surface water quality standards of the receiving water(s) will be attained and/or maintained. The permit also contains ambient monitoring requirements to ensure EPA has the information necessary to track the effectiveness of the permit in meeting water quality standards.

Obtaining Authorization: To obtain coverage under the Draft General Permit, facilities identified in Part 1.1 of this General Permit may submit a notice of intent (NOI) in accordance with 40 CFR 122.28(b)(2)(i) & (ii). The contents of the notice of intent shall include at a minimum, the legal name and address of the owner or operator, the facility name and address, type of facility or discharges, the receiving stream(s) and be signed by the operator in accordance with the signatory requirements of 40 CFR 122.22. Alternately, based on 40 CFR 122.28(b)(2)(vi), the Director may notify a discharger (or treatment works treating domestic sewage) that it is covered by a general permit, even if the discharger (or treatment works treating domestic sewage) has not submitted a notice of intent to be covered. EPA has determined that the 13 facilities identified in Part 1.1 all meet the eligibility requirements for coverage under the Draft General Permit and may be authorized to discharge under the General Permit by this type of notification.

Other Legal Requirements: In accordance with the Endangered Species Act (ESA), EPA has updated the provisions and necessary actions and documentation related to potential impacts to endangered species from sites seeking coverage under the Draft General Permit. Concurrently with the public notice of the Draft General Permit, EPA has submitted a letter to National Marine Fisheries Service (NMFS) summarizing the results of EPA's assessment of the potential effects to endangered and threatened species and their critical habitats as a result of EPA's issuance of the Draft General Permit. In this document, EPA has preliminarily concluded that the proposed issuance of the Draft General Permit is not likely to adversely affect the shortnose sturgeon, Atlantic sturgeon, or designated critical habitat for Atlantic sturgeon. EPA has requested that NMFS review this submittal and inform EPA whether it concurs with this preliminary finding.

Concurrently with the public notice of the Draft General Permit, EPA has also submitted a letter to United States Fish and Wildlife Service (USFWS) summarizing the results of EPA's assessment of the potential effects to endangered and threatened species and their critical habitats as a result of EPA's issuance of the Draft General Permit. In this document, EPA has preliminarily concluded that the Draft General Permit will have no effect on the small whorled pogonia or Northern long-eared bat, and may affect, but is not likely to adversely affect roseate tern, red knot, or piping plover. EPA has requested that USFWS review this submittal and inform EPA whether it concurs with this preliminary finding.

National Historic Preservation Act (NHPA): Facilities which adversely affect properties listed or eligible for listing in the National Registry of Historic Places under the NHPA are not authorized to discharge under the Draft General Permit. Based on the nature and location of the discharges, EPA has determined that the 13 facilities eligible for authorization under the Draft General Permit do not have the potential to affect a property that is either listed or eligible for listing on the National Register of Historic Places.

Authority: This action is being taken under the Clean Water Act, 33 U.S.C. 1251 et seq.

Dated: December 19, 2019.
Dennis Deziel,
Regional Administrator, EPA Region 1.

[FR Doc. 2019-28510 Filed 1-6-20; 8:45 am]

BILLING CODE 6560-50-P